DEPARTMENT OF TRANSPORTATION

Office of the Secretary

Reports, Forms and Recordkeeping Requirements; Agency Information Collection Activity Under OMB Review

AGENCY: Office of the Secretary, DOT.

ACTION: Notice.

SUMMARY: In compliance with the Paperwork Reduction Act of 1995 (44 U.S.C. 3501 et seq.), this notice announces that the Information Collection Request (ICR) abstracted below has been forwarded to the Office of Management and Budget (OMB) for renewal and comment. The ICR describes the nature of the information collection and its expected cost and burden. The Federal Register Notice with a 60-day comment period soliciting comments on the following collection of information was published on March 23, 2001 [66 FR 16309]. No comments were received.

DATES: Comments must be submitted on or before (insert: date 30 days after publishing in the Federal Register) to: Attention DOT/OST Desk Officer, Office of Information and Regulatory Affairs, Office of Management and Budget, Docket Library, Room 10102, 725 17th Street, NW., Washington, DC 20503.

FOR FURTHER INFORMATION CONTACT: Jack Schmidt, Competition and Policy Analysis Division, Office of Aviation Analysis; Office of the Secretary, U.S. Department of Transportation, 400 7th Street, SW., Washington DC 20590-0002. Telephone (202) 366-5420.

SUPPLEMENTARY INFORMATION: Office of the Secretary (OST).

Title: Passenger Manifest Information.

OMB Control Number: 2105-0534.

Affected Public: US and foreign direct air carriers

Annual Estimated Burden: 1.05 million hours.

Comments are invited on: whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

Issued in Washington, DC on June 5, 2001.
Michael Robinson,
Information Resource Management, United States Department of Transportation.

[FR Doc. 01-14492 Filed 6-7-01; 8:45 am]

BILLING CODE 4910-62-P